NATIONAL SCIENCE FOUNDATION

Sunshine Act; Meeting

Agency Holding Meeting: National Science Foundation National Science Board

DATE AND TIME: March 13, 2002: 2:00 p.m.—3:00 p.m. Closed Session.

March 14, 2002: 2:00 p.m.—12:30 p.m. Closed Session.

March 14, 2002: 1:30 p.m.—4:00 p.m. Open Session.

Place: The National Science Foundation, Room 1235, 4201 Wilson Boulevard, Arlington, VA 22230, www.nsf.gov/nsb.

Status: Part of this meeting will be closed to the public.

Part of this meeting will be open to the public.

Matters To Be Considered:

Wednesday, March 13, 2002

Closed Session (2:00 P.M.—3:00 P.M.)

—Closed Session Minutes, November, 2001

—NSB Vannevar Bush Award

—NSF Waterman Award

—NSB Member Proposals

—Election NSB Nominating Committee

Thursday, March 14, 2002

Closed Session (12:30 P.M.—1:30 P.M.)

—Awards and Agreements

NSF Budget, FY 2003, 2004

Open Session (1:30 P.M.—4:00 P.M.)

—Open Session Minutes, November, 2001

—Closed Session Items for May, 2002

—Chairman's Report

—Director's Report

—Director's Merit Review Report

—Environmental Activities Report

—Committee Reports

—NSF Long Range Planning Environment

—Other Business

Marta Cehelsky,
Executive Officer.

[FR Doc. 02-5436 Filed 3-4-02; 12:00 pm]

BILLING CODE 7555-01-M